DEPARTMENT OF HEALTH AND HUMAN SERVICES

Centers for Disease Control and Prevention

Criteria for Vaccination Requirements for U.S. Immigration Purposes [Correction]

A notice “Criteria for Vaccination Requirements for U.S. Immigration Purposes” was published in the Federal Register on April 8, 2009 (74 FR 15986). This notice is corrected as follows: On page 15986 second column, under DATES, second sentence should read: Comments received after May 8, 2009, will be considered to the extent possible.

Dated: April 13, 2009.
James D. Seligman,
Chief Information Officer, Centers for Disease Control and Prevention.

[FR Doc. E9-8981 Filed 4-17-09; 8:45 am]

BILLING CODE 4163-18-P